DEPARTMENT OF ENERGY

Federal Energy Regulatory Commission

[Docket No. AD18-6-000]

Notice of Availability of Revised Final Engineering Guidelines for the Evaluation of Hydropower Projects: Chapter 11—Arch Dams

On March 14, 2018, the Federal Energy Regulatory Commission issued a Notice of Availability of Final Engineering Guidelines for the Evaluation of Hydropower Projects: Chapter 11—Arch Dams. Appendix 11A provides an approach to estimate erosion of rock downstream of arch dams and is applicable to similar evaluations at other types of dams. Commission staff recently became aware of errors in several equations and one table in Appendix 11A; this notice provides a revised version of Chapter 11 correcting those errors.

All information related to “Chapter 11—Arch Dams,” including the draft chapter, all submitted comments, the final chapter, and the revised final chapter incorporating the revisions to Appendix A, can be found on the FERC website (www.ferc.gov) using the eLibrary link. Click on the eLibrary link, click on “General Search” and enter the docket number, excluding the last three digits in the Docket Number field (i.e., AD18-6). Be sure you have selected an appropriate date range. The Commission also offers a free service called eSubscription which allows you to keep track of all formal issuances and submittals in specific dockets. This can reduce the amount of time you spend researching proceedings by automatically providing you with electronic notification of these filings and direct links to the documents. Go to the Commission's website (www.ferc.gov), select the FERC Online option from the left-hand column, and click on eSubscription. Users must be registered in order to use eSubscription.

The revised version of Chapter 11 is also available on the Commission's Division of Dam Safety and Inspections website at: Engineering Guidelines for the Evaluation of Hydropower Projects | Federal Energy Regulatory Commission (ferc.gov).

For assistance with any of the Commission's online systems, please contact FERC Online Support at FercOnlineSupport@ferc.gov or toll free at (866) 208-3676, or for TTY, contact (202) 502-8258.

Dated: December 12, 2023.
Kimberly D. Bose,
Secretary.

[FR Doc. 2023-27751 Filed 12-15-23; 8:45 am]

BILLING CODE 6717-01-P